DEPARTMENT OF THE INTERIOR

Fish and Wildlife Service

Notice of Availability of the Draft Barton Springs Salamander Recovery Plan; Notice of Initiation of a 5-Year Status Review for the Barton Springs Salamander (Eurycea sosorum)

AGENCY: Fish and Wildlife Service, Interior.

ACTION: Notice of document availability and notice of review.

SUMMARY: The U.S. Fish and Wildlife Service (Service) announces the availability for public review of the Draft Barton Springs Salamander Recovery Plan (Draft Recovery Plan). The Barton Springs salamander (Eurycea sosorum) is known to occur near four springs outlets that collectively make up Barton Springs in Austin, Texas. The Service solicits review and comment from the public on this Draft Recovery Plan. The Service also announces a 5-year status review of the Barton Springs salamander under section 4(c)(2)(A) of the Endangered Species Act of 1973 (Act) (16 U.S.C. 1531 et seq.). The purpose of reviews conducted under this section of the Act is to ensure that the classification of the species as threatened or endangered on the List of Endangered and Threatened Wildlife and Plants (List) is accurate. A 5-year review is based on the best scientific and commercial data available at the time of the review. Therefore, we are requesting submission of any such information on the Barton Springs salamander that has become available since its original listing as an endangered species in 1997. If the present classification of this species is not consistent with the best scientific and commercial information available, the Service will recommend whether or not a change is warranted in the Federal classification of Barton Springs salamander. Any change in Federal classification would require a separate rule-making process.

DATES: Comments on the Draft Recovery Plan are due by March 28, 2005 to assure consideration. Information and materials for consideration in this 5-year review of the Barton Springs salamander must be received no later than March 28, 2005. However, we will continue to accept new information about any listed species at any time.

ADDRESSES: Persons wishing to review the Draft Recovery Plan may obtain it from the Internet at http://endangered.fws.gov/recovery/. You may also request a copy from the U.S. Fish and Wildlife Service, Austin Ecological Services Field Office, 10711 Burnet Road, Suite 200, Austin, Texas, 78758. Comments and materials concerning this Draft Recovery Plan and/or the 5-year status review may be mailed to “Field Supervisor” at the address above. Information received in response to this notice and review will be available for public inspection, by appointment, during normal business hours at the above address.

FOR FURTHER INFORMATION CONTACT: Robert Pine, Austin Ecological Services Field Office, at the above address; telephone (512) 490-0057, facsimile (512) 490-0974.

SUPPLEMENTARY INFORMATION:

Draft Recovery Plan

The Barton Springs salamander was listed as endangered on May 30, 1997, under authority of the Endangered Species Act of 1973, as amended (62 FR 23377). The water that discharges from Barton Springs is essential to the survival of the salamander. Barton Springs is a segment of the Edwards Aquifer, a karst limestone aquifer containing a complex system of caves, sinkholes, fractures, and faults. The Edwards Aquifer is particularly vulnerable to contamination and land use changes that degrade the quality of stormwater runoff. The primary threat facing the survival and recovery of this species is the degradation of water quality and quantity of water that feeds Barton Springs. This degradation has resulted from urbanization over the Barton Springs watershed (including roadway, residential, commercial, and industrial development). The Draft Recovery Plan includes information about the species, provides recovery objectives and criteria, and describes the actions needed to recover the species such that it no longer warrants listing as endangered or threatened.

The Draft Recovery Plan proposes reclassification of the Barton Springs salamander from endangered to threatened when the following criteria have been met: (1) Mechanisms (such as laws, rules, regulations, and cooperative agreements) are in place to ensure nondegradation of water quality in the Barton Springs watershed; (2) a plan to avoid, respond to, and remediate hazardous materials spills within the Barton Springs watershed is in place with high priority measures implemented to minimize risks to the Barton Springs salamander; (3) measures to ensure that continuous, natural springflows are maintained at all four spring outlets are in place and effective; (4) a healthy, self-sustaining natural population of Barton Springs salamanders is maintained within its historical range; (5) measures to remove local threats to the Barton Springs ecosystem have been implemented; (6) at least two genetically representative captive populations of Barton Springs salamanders have been established in secure locations with the completion of a captive propagation and contingency plan.

The Draft Recovery Plan proposes the delisting of the Barton Springs salamander when the downlisting criteria have been achieved and the following additional criteria have been met: (1) Water quality protection mechanisms are shown to be effective and commitments are in place to continue protection; (2) measures to implement the catastrophic spill avoidance, response and remediation plans are ensured; (3) measures to maintain adequate springflows are shown to be effective; (4) the Barton Springs salamander population is shown to be viable and stable or increasing; (5) measures to remove local threats to the Barton Springs ecosystem are shown to be effective and a commitment is in place to continue the appropriate management of the surface habitat; and (6) captive breeding is shown to be effective and reliable and commitments are in place to maintain adequate captive populations for any needed restoration work.

Because the Barton Springs salamander relies on continuous flow of clean spring water, many of the high-priority recovery tasks outlined in the Draft Recovery Plan include actions to ensure adequate water quality and quantity within the Barton Springs watershed such as: (1) Developing and implementing catastrophic spill avoidance, response, and remediation plans; (2) implementing programs to protect sensitive environmental features important to salamander habitat or the effective recharge of clean water such as caves, sinkholes, fissures, springs, and riparian zones; (3) developing and implementing programs to identify and correct problems from point and non-point source pollution discharges; and (4) creating a regional management program that will be used to ensure the protection of aquifer level and springflows under normal and drought conditions. Other high-priority recovery actions include ensuring protection for existing spring habitats and establishing and maintaining adequate captive breeding populations.

Restoring an endangered or threatened animal or plant to the point where it is again a secure, self-sustaining member of its ecosystem is a primary goal of the Service's endangered species program. To help guide the recovery effort, the Service is working to prepare recovery plans for most of the listed species native to the United States. Recovery plans describe actions considered necessary for conservation of listed species, establish criteria for downlisting or delisting those species, and estimate time and cost for implementing the necessary recovery measures.

The Act requires the development of recovery plans for listed species, unless such a plan would not promote the conservation of a particular species. Section 4(f) of the Act, as amended in 1988, requires that public notice and an opportunity for public review and comment be provided during recovery plan development. The Service considers all information presented during a public comment period prior to approval of each new or revised recovery plan. The Service and others also take these comments into account in the course of implementing recovery plans.

The Draft Recovery Plan is being submitted for review to all interested parties and for independent peer review. After consideration of comments received during the review period, and including new information and materials provided for the 5-year status review, the Draft Recovery Plan will be prepared for final approval.

5-Year Status Review

Under the Act, the Service maintains a list of endangered and threatened wildlife and plant species at 50 CFR 17.11 (for animals) and 17.12 (for plants). Section 4(c)(2)(A) of the Act requires that we conduct a status review of listed species at least once every five years. Then, on the basis of such reviews under section 4(c)(2)(B), we determine whether or not any species should be removed from the List (delisted), or reclassified from endangered to threatened or from threatened to endangered (downlisted). Delisting a species must be supported by the best scientific and commercial data available and only considered if such data substantiates that the species is neither endangered nor threatened for one or more of the following reasons: (1) The species is considered extinct; (2) the species is considered to be recovered; and/or (3) the original data available when the species was listed, or the interpretation of such data, were in error. Any change in Federal classification would require a separate rulemaking process. The regulations in 50 CFR 424.21 require that we publish a notice in the Federal Register announcing those species currently under active review.

The City of Austin initiated Barton Springs salamander surveys in 1993, and is currently conducting monthly surveys of salamanders at all known salamander locations. Although monitoring of the status of the Barton Springs salamander is an ongoing process, the Service is now initiating an active, periodic review on the status of the Barton Springs salamander in accordance with section 4(c)(2)(A) of the Act. This information may include population trend data and information on the threats faced by the salamander. The recovery planning process is an appropriate time to conduct an active review of a species' status, as the Service is actively seeking all relevant information on the salamander and the threats it faces. This notice announces our active review of the Barton Springs salamander, which is currently listed as endangered.

What Information Is Considered in the Review?

A 5-year review considers all new information available at the time of the review. These reviews will consider the best scientific and commercial data that has become available since the current listing determination or most recent status review of each species, such as:

A. Species biology including, but not limited to, population trends, distribution, abundance, demographics, and genetics;

B. Habitat conditions including, but not limited to, amount, distribution, and suitability;

C. Conservation measures that have been implemented to benefit the species;

D. Threat status and trends (see five factors under heading “How do we determine whether a species is endangered or threatened?”); and

E. Other new information, data, or corrections including, but not limited to, taxonomic or nomenclatural changes, identification of erroneous information contained in the List, and improved analytical methods.

How Is Barton Springs Salamander Currently Listed?

The List is found in 50 CFR 17.11 (wildlife) and 17.12 (plants). Amendments to the List through final rules are published in the Federal Register. The List is also available on our internet site at http://endangered.fws.gov/wildlife.html#Species. The Barton Springs salamander is listed as endangered. It occurs only in the state of Texas. The final rule listing it as endangered was published in the Federal Register in 1997 (62 FR 23377 23392).

Definitions Related to This Notice

The following definitions are provided to assist those persons considering submission of information regarding the species being reviewed:

A. Species includes any species or subspecies of fish, wildlife, or plant, and any distinct population segment of any species of vertebrate, which interbreeds when mature.

B. Endangered means any species that is in danger of extinction throughout all or a significant portion of its range.

C. Threatened means any species that is likely to become an endangered species within the foreseeable future throughout all or a significant portion of its range.

How Do We Determine Whether a Species Is Endangered or Threatened?

Section 4(a)(1) of the Act establishes that we determine whether a species is endangered or threatened based on one or more of the five following factors:

A. The present or threatened destruction, modification, or curtailment of its habitat or range;

B. Over-utilization for commercial, recreational, scientific, or educational purposes;

C. Disease or predation;

D. The inadequacy of existing regulatory mechanisms; or

E. Other natural or manmade factors affecting its continued existence.

Section 4(a)(1) of the Act requires that our determination be made on the basis of the best scientific and commercial data available.

What Could Happen as a Result of This Review?

If new information concerning Barton Springs salamander indicates a change in classification may be warranted, we may propose a new rule that could do one of the following: (a) Reclassify the species from endangered to threatened; or (b) remove the species from the List. If we determine that a change in classification is not warranted for Barton Springs salamander, it will remain on the List under its current status. Information provided during this 5-year review could also affect the recommendations of the recovery plan for this species.

Public Comments and New Information Solicited

The Service solicits written comments on the draft recovery plan described above. All comments received by the date specified above will be considered prior to approval of the recovery plan.

To ensure that the 5-year status review is complete and based on the best available scientific and commercial information, we are also soliciting new information from the public, concerned governmental agencies, Tribes, the scientific community, industry, environmental entities, and any other interested parties concerning the status of the Barton Springs salamander.

Comments on the draft recovery plan and information and/or materials for the 5-year review should be provided to the U.S. Fish and Wildlife Service, Austin Ecological Services Field Office (see ADDRESSES section). Information submitted should be supported by documentation such as maps, bibliographic references, methods used to gather and analyze the data, and/or copies of any pertinent publications, reports, or letters by knowledgeable sources. Our practice is to make comments, including names and home addresses of respondents, available for public review during regular business hours. Respondents may request that we withhold a respondent's identity, as allowable by law. If you wish us to withhold your name or address, you must state this request prominently at the beginning of your comment. We will not, however, consider anonymous comments. To the extent consistent with applicable law, we will make all submissions from organizations or businesses, and from individuals identifying themselves as representatives or officials of organizations or businesses, available for public inspection in their entirety. Comments and materials received will be available for public inspection, by appointment, during normal business hours (see ADDRESSES section).

Authority

This document is published under the authority of the Endangered Species Act of 1973, as amended (16 U.S.C. 1531 et seq.).

Dated: December 3, 2004.
H. Dale Hall,
Regional Director, Region 2, Fish and Wildlife Service.

[FR Doc. 05-1290 Filed 1-24-05; 8:45 am]

BILLING CODE 4310-55-P